Title 3—

The President

Executive Order 13683 of December 11, 2014

Amendments to Executive Orders 11030, 13653, and 13673

By the authority vested in me as President by the Constitution and the laws of the United States of America, it is hereby ordered as follows:

Section 1. Executive Order 11030 of June 19, 1962, as amended (Preparation, Presentation, Filing, and Publication of Executive Orders and Proclamations), is further amended as follows:

(a) in section 1(f), by striking “inches” where it appears after the phrase “approximately 1” and inserting “inch”;

(b) in section 4, to read as follows:

“Sec. 4. Proclamations calling for the observance of special days or events. Except as may be otherwise provided by law, responsibility for the preparation and presentation of proposed proclamations calling for the observance of special days, or other periods of time, or events shall be assigned by the Director of the Office of Management and Budget to such agencies or offices as the Director may consider appropriate. Such proposed proclamations shall be submitted to the Director, or to an office within the Executive Office of the President designated by the Director, at least sixty days before the date of the specified observance. Notwithstanding the provisions of Section 2, the Director or the head of such designated office, as appropriate, shall transmit any approved commemorative proclamations to the President.”;

(c) by inserting a new section 5 to read as follows:

“Sec. 5. Trade Proclamations. (a) Proclamations to be issued under the Trade Act of 1974 or other trade law (“trade proclamations”) shall be prepared by the United States Trade Representative and submitted to the Attorney General for consideration as to both form and legality. Section 2 of this order does not apply to trade proclamations.

(b) If the proposed trade proclamation is disapproved by the Attorney General, it shall not thereafter be presented to the President unless it is accompanied by a statement of the reasons for such disapproval.”; and

(d) by renumbering current sections 5, 6, and 7 as 6, 7, and 8, respectively.

Sec. 2. Executive Order 13653 of November 1, 2013 (Preparing the United States for the Impacts of Climate Change), is amended as follows:

(a) in section 6(b):

(i) by inserting “, and the Director of OMB” after the phrase “the Assistant to the President for Homeland Security and Counterterrorism”;

(ii) by striking the “and” preceding “the Assistant to the President for Homeland Security and Counterterrorism”;

(iii) by striking “(xxviii) the Office of Management and Budget;”; and

(iv) by renumbering current subsections (xxix), (xxx), and (xxxi) as (xxviii), (xxix), and (xxx), respectively; and

(b) in section 6(d), to read as follows: “(d) Council Structure. The Co-Chairs may designate a subset of members of the Council to serve on a Steering Committee to help determine priorities and strategic direction for the Council. The Co-Chairs and Steering Committee may establish working groups as needed, and may recharter working groups of the Interagency Climate Change Adaptation Task Force, as appropriate.”.

Sec. 3. Section 2(a)(i)(I) of Executive Order 13673 of July 31, 2014 (Fair Pay and Safe Workplaces), is amended to read as follows: “(I) the Vietnam Era Veterans' Readjustment Assistance Act of 1972 and the Vietnam Era Veterans' Readjustment Assistance Act of 1974;”.

Sec. 4. General Provisions. (a) Nothing in this order shall be construed to impair or otherwise affect:

(i) the authority granted by law to an agency or the head thereof; or

(ii) the functions of the Director of the Office of Management and Budget relating to budgetary, administrative, or legislative proposals.

(b) This order is not intended to, and does not, create any right or benefit, substantive or procedural, enforceable at law or in equity by any party against the United States, its departments, agencies, or entities, its officers, employees, or agents, or any other person.

THE WHITE HOUSE,

December 11, 2014.

[FR Doc. 2014-29625

Filed 12-15-14; 11:15 am]

Billing code 3295-F5